DEPARTMENT OF ENERGY

Federal Energy Regulatory Commission

[Docket No. ER05-443-000, et al.]

Midwest Independent Transmission System Operator, Inc., et al.; Electric Rate and Corporate Filings

January 21, 2005.

The following filings have been made with the Commission. The filings are listed in ascending order within each docket classification.

1. Midwest Independent Transmission System Operator, Inc.

[Docket No. ER05-443-000]

Take notice that on January 13, 2005, the Midwest Independent Transmission System Operator, Inc. (Midwest ISO) and American Transmission Systems, Incorporated (ATSI) submitted a Revised and Restated Generator Interconnection and Operating Agreement among FirstEnergy Nuclear Operating Company, ATSI and the Midwest ISO. Midwest ISO requests an effective date of January 1, 2005.

Midwest ISO copy of this filing was served on parties to the Interconnection Agreement.

Comment Date: 5 p.m. Eastern Time on February 3, 2005.

2. Florida Power & Light Company

[Docket No. ER05-444-000]

Take notice that on January 13, 2005, Florida Power & Light Company (FPL) tendered for filing a new Rate Schedule No. 303, Agreement for Specified Services between FPL and Bio-Energy Partners. FPL requests an effective date of January 1, 2005.

Comment Date: 5 p.m. Eastern Time on February 3, 2005.

3. Florida Power & Light Company

[Docket No. ER05-445-000]

Take notice that on January 13, 2005, Florida Power & Light Company (FPL) tendered for filing a new Rate Schedule No. 304, Bio-energy Partners Parallel Operation Agreement between FPL and Seminole Electric Cooperative, Inc. FPL requests an effective date of January 1, 2005.

Comment Date: 5 p.m. Eastern Time on February 3, 2005.

4. California Independent System Operator Corporation

[Docket No. ER05-449-000]

Take notice that on January 13, 2005, the California Independent System Operator Corporation (ISO) filed an amendment (Amendment No. 4) to revise the Metered Sybsystem Agreement between the ISO and Silicon Valley Power (SVP). The ISO requests an effective date of February 21, 2005.

The ISO states that the non-privileged elements of this filing have been served on SVP, the California Public Utilities Commission, and all entities on the official service lists for Docket Nos. ER02-2321-000, ER04-185-000, ER04-940 and ER05-81-000.

Comment Date: 5 p.m. Eastern Time on February 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-349 Filed 1-28-05; 8:45 am]

BILLING CODE 6717-01-P